DEPARTMENT OF COMMERCE

International Trade Administration

[A-523-810]

Polyethylene Terephthalate Resin From the Sultanate of Oman: Preliminary Results of Antidumping Duty Administrative Review; 2020-2021

AGENCY: Enforcement and Compliance, International Trade Administration, Department of Commerce.

SUMMARY: The U.S. Department of Commerce (Commerce) preliminarily determines that OCTAL SAOC—FZC (OCTAL), the sole respondent subject to this antidumping duty (AD) administrative review, did not make sales of subject merchandise at less than normal value during the period of review (POR) May 1, 2020, through April 30, 2021. Interested parties are invited to comment on these preliminary results of review.

DATES: Applicable June 7, 2022.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On July 6, 2021, Commerce initiated an administrative review of the AD order on polyethylene terephthalate resin (PET resin) from the Sultanate of Oman (Oman) ¹ for the POR with respect to OCTAL.² For a complete description of the events that followed the initiation of this review, see the accompanying Preliminary Decision Memorandum.³

¹ See Certain Polyethylene Terephthalate Resin from Canada, the People's Republic of China, India, and the Sultanate of Oman: Amended Final Affirmative Antidumping Determination (Sultanate of Oman) and Antidumping Duty Orders, 81 FR 27979 (May 6, 2016) (Order).

² See Initiation of Antidumping and Countervailing Duty Administrative Reviews, 86 FR 35481 (July 6, 2021).

³ See Memorandum, “Decision Memorandum for the Preliminary Results of the 2020-2021 Antidumping Duty Administrative Review of Polyethylene Terephthalate Resin from the Sultanate of Oman,” dated concurrently with, and hereby adopted by, this notice (Preliminary Decision Memorandum).

On January 11, 2022, Commerce extended the deadline for these preliminary results of this review from January 31, 2022, to May 31, 2022.⁴

⁴ See Memorandum, “Polyethylene Terephthalate Resin from the Sultanate of Oman: Extension of Deadline for Preliminary Results of the 2020-2021 Antidumping Duty Administrative Review,” dated January 11, 2022.

Scope of the Order

The merchandise covered by this order is PET resin having an intrinsic viscosity of at least 0.70, but not more than 0.88, deciliters per gram. The merchandise subject to this order is properly classified under subheadings 3907.60.00.30, 3907.61.0000, 3907.61.0010, 3907.61.0050, 3907.69.0000, 3907.69.0010, and 3907.69.0050 of the Harmonized Tariff Schedule of the United States (HTSUS).⁵ Although the HTSUS subheadings are provided for convenience and customs purposes, the written description of the merchandise covered by this order is dispositive. For a full description of the scope of the Order, see Preliminary Decision Memorandum.⁶

⁵ On January 27, 2017, Commerce added HTS numbers 3907.61.0000 and 3907.69.0000 to the Case Reference File. See Memorandum, “Request from Customs and Border Protection to Update the ACE Case Reference File: Polyethylene Terephthalate Resin form the Sultanate of Oman (A-523-810),” dated January 31, 2017. Further, on February 28, 2019, Commerce added HTS numbers 3907.61.0010, 3907.61.0050, 3907.69.0010 and 3907.69.0050 to the Case Reference File. See Memorandum, “Request from U.S. Customs and Border Protection to Update the ACE Case Reference File: Polyethylene Terephthalate Resin from the Sultanate of Oman (A-523-810),” dated February 28, 2019.

⁶ See Preliminary Decision Memorandum.

Methodology

We conducted this review in accordance with section 751(a) of the Tariff Act of 1930, as amended (the Act). We calculated export price and normal value in accordance with sections 772 and 773 of the Act, respectively. For a full description of the methodology underlying our conclusions, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at http://access.trade.gov. In addition, the Preliminary Decision Memorandum may be accessed directly at https://access.trade.gov/public/FRNoticesListLayout.aspx.

Preliminary Results of the Review

Commerce preliminarily determines that the following weighted-average dumping margin exists for the period May 1, 2020, through April 30, 2021:

Manufacturer/exporter | Weighted- average margin (percent)
OCTAL SAOC—FZC | 1.27

Disclosure

Commerce intends to disclose the calculations used in its analysis to parties to the proceeding within five days of the date of publication of this notice in the Federal Register in accordance with 19 CFR 351.224(b).

Verification

As provided in section 782(i)(3) of the Act, Commerce intends to verify the information relied upon in making its final results of the review.

Public Comment

Interested parties are invited to comment on the preliminary results of this review. Pursuant to 19 CFR 351.309(c)(1)(ii), interested parties may submit case briefs no later than 30 days after the date of publication of this notice in the Federal Register. Rebuttal briefs, limited to issues raised in the case briefs, may be filed no later than five days after the time limit for filing case briefs.⁷ Parties who submit case or rebuttal briefs in this proceeding are requested to submit with each brief: (1) a statement of the issue, (2) a brief summary of the argument, and (3) a table of authorities.⁸ Executive summaries should be limited to five pages total, including footnotes.⁹ Case and rebuttal briefs should be filed using ACCESS.¹⁰ Note that Commerce has temporarily modified certain of its requirements for serving documents containing business proprietary information, until further notice.¹¹

⁷ See 19 CFR 351.309(d).

⁸ See 19 CFR 351.309(c)(2) and (d)(2).

⁹ Id.

¹⁰ See 19 CFR 351.303.

¹¹ See Temporary Rule Modifying AD/CVD Service Requirements Due to COVID-19, 85 FR 17006 (March 26, 2020); and Temporary Rule Modifying AD/CVD Service Requirements Due to COVID-19; Extension of Effective Period, 85 FR 41363 (July 10, 2020).

Pursuant to 19 CFR 351.310(c), any interested party who wishes to request a hearing must file a written request for a hearing to the Assistant Secretary for Enforcement and Compliance via ACCESS within 30 days after the date of publication of this notice in the Federal Register. Requests for a hearing should contain: (1) the requesting party's name, address, and telephone number; (2) the number of individuals from the requesting party that will attend the hearing, including, whether any individuals are foreign nationals; and (3) a list of the issues the party intends to discuss at the hearing. Issues raised in the hearing will be limited to those raised in the case and rebuttal briefs. If a hearing is requested, Commerce will notify interested parties of the hearing date and time. Parties should confirm by telephone the date and time of the hearing two days before the scheduled hearing date.

Final Results of the Review

We intend to issue the final results of this administrative review, including the results of our analysis of issues raised by the parties in any written briefs, within 120 days of publication of these preliminary results in the Federal Register, unless otherwise extended.¹²

¹² See section 751(a)(3)(A) of the Act; see also 19 CFR 351.213(h)(1).

Assessment Rates

Upon issuance of the final results of this review, Commerce will determine, and U.S. Customs and Border Protection (CBP) shall assess, antidumping duties on all appropriate entries in accordance with 19 CFR 351.212(b)(1). We will calculate importer-specific assessment rates equal to the ratio of the total amount of dumping calculated for examined U.S. sales of merchandise imported by a particular importer, to the total entered value of the reported U.S. sales in accordance with 19 CFR 351.212(b)(1).¹³ Where the respondent's weighted-average dumping margin is zero or de minimis, or an importer-specific assessment rate is zero or de minimis, we will instruct CBP to liquidate the appropriate entries without regard to antidumping duties.¹⁴ The final results of this review shall be the basis for the assessment of antidumping duties on entries of merchandise under review and for future deposits of estimated duties, where applicable.

¹³ In these preliminary results, we applied the assessment rate calculation method adopted in Antidumping Proceedings: Calculation of the Weighted-Average Dumping Margin and Assessment Rate in Certain Antidumping Duty Proceedings; Final Modification, 77 FR 8101 (February 14, 2012).

¹⁴ Id., 77 FR at 8103; see also 19 CFR 351.106(c)(2).

For entries of subject merchandise during the POR produced by OCTAL for which it did not know that its merchandise was destined for the United States, we will instruct CBP to liquidate such entries at the all-others rate (i.e., 7.62 percent) ¹⁵ if there is no rate for the intermediate company(ies) involved in the transaction.

¹⁵ See Order, 81 FR 27981.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of PET resin from Oman entered, or withdrawn from warehouse, for consumption on or after the date of publication of this notice of the final results of this administrative review, as provided for by section 751(a)(2)(C) of the Act: (1) the cash deposit rate for OCTAL will be equal to the weighted-average dumping margin established in the final results of this review (except, if the weighted-average dumping margin is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 7.62 percent ad valorem, the all-others rate established in the less-than-fair-value investigation.¹⁶ These cash deposit requirements, when imposed, shall remain in effect until further notice.

¹⁶ Id.

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.221(b)(4).

Dated: May 31, 2022.
Lisa W. Wang,
Assistant Secretary for Enforcement and Compliance.

Appendix

List of Sections in the Preliminary Decision Memorandum

I. Summary

II. Background

III. Scope of the Order

IV. Adverse Facts Available

V. Discussion of the Methodology

VI. Currency Conversion

VI. Recommendation

[FR Doc. 2022-12193 Filed 6-6-22; 8:45 am]

BILLING CODE 3510-DS-P